DEPARTMENT OF COMMERCE

National Oceanic and Atmospheric Administration

RIN 0648-XA629

Marine Mammals; File No. 15471-02

AGENCY: National Marine Fisheries Service (NMFS), National Oceanic and Atmospheric Administration (NOAA), Commerce.

ACTION: Notice; issuance of permit amendment.

SUMMARY: Notice is hereby given that to Michael Adkesson, D.V.M., Chicago Zoological Society, 3300 Golf Rd., Brookfield, IL 60527 has been issued a minor amendment to Scientific Research Permit No. 15471-01.

ADDRESSES: The amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Jennifer Skidmore, (301) 427-8401.

SUPPLEMENTARY INFORMATION: The requested permit amendment has been issued under the authority of the Marine Mammal Protection Act of 1972, as amended (16 U.S.C. 1361 et seq.) and the regulations governing the taking and importing of marine mammals (50 CFR part 216).

The original permit (No. 15741), issued on August 23, 2010 (75 FR 52721), and subsequent amendment (No. 15741-01; 76 FR 60808) authorizes the importation of biological samples from South American fur seals (Arctocephalus australis) and South American sea lions (Otaria flavescens) for scientific research. These samples are part of ongoing health assessment studies of these species in Punta San Juan, Peru. The minor amendment (No. 15741-02) extends the duration of the permit for an additional year (August 31, 2016), but does not change any other terms or conditions of the permit.

Dated: August 4, 2015.
Julia Harrison,
Chief, Permits and Conservation Division, Office of Protected Resources, National Marine Fisheries Service.

[FR Doc. 2015-19431 Filed 8-6-15; 8:45 am]

BILLING CODE 3510-22-P